DEPARTMENT OF EDUCATION

Office of Special Education and Rehabilitative Services; Grant Applications Under Part D, Subpart 2 of the Individuals With Disabilities Education Act

AGENCY: Department of Education.

ACTION: Notice inviting applications for new awards for fiscal year (FY) 2002.

SUMMARY: This notice provides closing dates and other information regarding the transmittal of applications for FY 2002 competitions under one program authorized by the Individuals with Disabilities Education Act (IDEA), as amended: Special Education—Personnel Preparation to Improve Services and Results for Children with Disabilities (five priorities).

National Education Goals

The eight National Education Goals focus the Nation's education reform efforts and provide a framework for improving teaching and learning.

This priority addresses the National Education Goals by helping to improve results for children with disabilities.

Waiver of Rulemaking

It is generally our practice to offer interested parties the opportunity to comment on proposed priorities. However, section 661(e)(2) of IDEA makes the Administrative Procedure Act (5 U.S.C. 553) inapplicable to the priorities in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) Part III of each application submitted under a priority in this notice, the application narrative, is where an applicant addresses the selection criteria that are used by reviewers in evaluating the application. You must limit Part III to the equivalent of no more than the number of pages listed under each applicable priority and in the table at the end of this notice, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Special Education—Personnel Preparation to Improve Services and Results For Children With Disabilities [CFDA 84.325]

Purpose of Program: The purposes of this program are to (a) help address State-identified needs for qualified personnel in special education, related services, early intervention, and regular education, to work with children with disabilities; and (b) to ensure that those personnel have the skills and knowledge, derived from practices that have been determined through research and experience to be successful, that are needed to serve those children.

Eligible Applicants: Institutions of higher education are eligible applicants for Absolute Priorities 1-4 under this program. Eligible applicants for Absolute Priority 5, Projects of National Significance, are: State and local educational agencies; institutions of higher education; other public agencies; private nonprofit organizations; outlying areas; freely associated States; and Indian tribes or tribal organizations.

Applicable Regulations: (a) Program regulations in 34 CFR part 304; (b) The Education Department General Administrative Regulations (EDGAR) in 34 CFR parts 74, 75, 77, 79, 80, 81, 82, 85, 86, 97, 98, and 99; (c) The selection criteria for the priorities under this program that are drawn from the EDGAR general selection menu. The specific selection criteria for each priority are included in the funding application packet for the applicable competition.

Note: The regulations in 34 CFR part 86 apply to institutions of higher education only.

Additional Requirement for All Personnel Preparation Program Priorities

Student financial assistance is authorized only for the preservice preparation of special education and related services personnel who serve children ages 3 through 21, early intervention personnel who serve infants and toddlers, and leadership personnel who work in these areas.

Priority

Under section 673 of the Act and 34 CFR 75.105(c)(3) we consider only applications that meet one of the following priorities:

Absolute Priority 1—Preparation of Special Education, Related Services, and Early Intervention Personnel to Serve Infants, Toddlers, and Children with Low-Incidence Disabilities (84.325A)

Background

The national demand for educational, related services, and early intervention personnel to serve infants, toddlers, and children with low-incidence disabilities exceeds available supply. However, because of the small number of these personnel needed in each State, institutions of higher education and individual States have not given priority to programs that train personnel to work with those with low-incidence disabilities. Moreover, of the programs that do exist, many are not producing graduates with the prerequisite skills needed to meet the needs of the low-incidence disability population. Thus, Federal support is required to ensure an adequate supply of personnel to serve children with low-incidence disabilities and to improve the quality of appropriate training programs so that graduates possess necessary prerequisite skills.

Priority: This priority supports projects that increase the number and quality of personnel to serve children with low-incidence disabilities by providing preservice preparation of special educators, early intervention personnel, and related services personnel at the associate, baccalaureate, master's, or specialist level.

A preservice program is a program that leads toward a degree, certification, professional license or endorsement (or its equivalent), and may include the preparation of currently employed personnel who are seeking additional degrees, certifications, endorsements, or licenses.

The term “low-incidence disability” means a visual or hearing impairment, or simultaneous visual and hearing impairments, a significant cognitive impairment, or any impairment for which a small number of personnel with highly specialized skills and knowledge are needed in order for children with that impairment to receive early intervention services or a free appropriate public education (IDEA, section 673(b)(3)). Training for personnel to serve children with mild-moderate mental retardation, specific learning disabilities, speech or language disorders, or emotional and behavioral disabilities is addressed under the priority for the preparation of personnel to serve children with high-incidence disabilities (84.325H), and, therefore, is not supported under this priority.

Applicants may propose to prepare one or more of the following types of personnel:

(a) Early intervention personnel who serve children birth through age 2 (until the third birthday) with low-incidence disabilities and their families. For the purpose of this priority, all children who require early intervention services are considered to have a low-incidence disability. Early intervention personnel include persons who train, or serve as consultants to, service providers and service coordinators;

(b) Special educators, including early childhood, speech and language, adapted physical education, and assistive technology, and paraprofessional personnel who work with children with low-incidence disabilities; or

(c) Related services personnel who provide developmental, corrective, and other support services (such as school psychologists, occupational or physical therapists, and recreational therapists) that assist children with low-incidence disabilities to benefit from special education. Both comprehensive programs, and specialty components within a broader discipline, that prepare personnel for work with the low-incidence population may be supported. For the purpose of this priority, eligible related service providers do not include physicians.

We particularly encourage projects that address the needs of more than one State, provide multi-disciplinary training, and provide for collaboration among several training institutions and between training institutions and public schools. In addition, we encourage projects that foster successful coordination between special education and regular education professional development programs to meet the needs of children with low-incidence disabilities in inclusive settings.

Each project funded under this absolute priority must—

(a) Use research-based curriculum and pedagogy to prepare personnel who are able to improve outcomes for students with low-incidence disabilities and to foster appropriate access to and achievement in the general education curriculum whenever appropriate;

(b) Demonstrate how research-based curriculum and pedagogy are incorporated into training requirements and reflected in all relevant coursework for the proposed training program.

(c) Offer integrated training and practice opportunities that will enhance the collaborative skills of appropriate personnel who share responsibility for providing effective services for children with the disabilities;

(d) Prepare personnel to address the specialized needs of children with low-incidence disabilities from diverse cultural and language backgrounds by—

(1) Determining the additional competencies needed for personnel to understand and work with culturally and linguistically diverse populations; and

(2) Infusing those competencies into early intervention, special education, and related services training programs, as appropriate;

(e) Develop or improve and implement mutually beneficial partnerships between training programs and schools where children are served to promote continuous improvement in preparation programs and in service delivery;

(f) If field-based training is provided, include field-based training opportunities for students in schools and settings reflecting wide contextual and student diversity, including schools and settings in high poverty communities;

(g) If the project prepares personnel to provide services to visually impaired or blind children that can be appropriately provided in Braille, prepare those individuals to provide those services in Braille.

(h) Provide clear, defensible data-based methods for evaluating the extent to which graduates of the training program are prepared to provide high quality services that result in improved outcomes for children with disabilities; and, describe how the data-based results of this evaluation process will be communicated to OSEP in required annual continuation reports and final grant reports;

(i) Describe how the proposed training program is aligned with State learning standards for children; and

(j) Include, in the application Appendix, all course syllabi that are relevant to the training program proposed. Course syllabi must clearly reflect the incorporation of research-based curriculum and pedagogy as required under (b) above.

To be considered for an award, an applicant must satisfy the following requirements contained in section 673(f)-(i) of the Act and 34 CFR part 304—

(a) Demonstrate, with letters from one or more States that the project proposes to serve, that such State or States need personnel in the area or areas in which the applicant proposes to provide preparation, as identified in the States' comprehensive systems of personnel development under Part B or C of the Act;

(b) Demonstrate that it has engaged in a cooperative effort with one or more State educational agencies or, if appropriate, lead agencies for providing early intervention services, to plan, carry out, and monitor the project;

(c) Provide letters from one or more States stating that they intend to accept successful completion of the proposed personnel preparation program as meeting State personnel standards for serving children with disabilities or serving infants and toddlers with disabilities;

(d) Meet State and professionally-recognized standards for the preparation of special education, related services, or early intervention personnel;

(e) Ensure that individuals who receive financial assistance under the proposed project will meet the service obligation requirements, or repay all or part of the cost of that assistance, in accordance with section 673(h)(1) of the Act and the regulations in 34 CFR part 304. Applicants must describe how they will inform scholarship recipients of this service obligation requirement; and

(f) In accordance with section 673(i) of the Act and § 304.20 of the regulations, use at least 55 percent of the total requested budget for student scholarships or provide sufficient justification for any designation less than 55 percent of the total requested budget for student scholarships.

Under this absolute priority, we plan to award approximately:

• 60 percent of the available funds for projects that support careers in special education, including early childhood educators;

• 10 percent of the available funds for projects that support careers in educational interpreter services for hearing impaired individuals;

• 15 percent of the available funds for projects that support careers in related services, other than educational interpreter services; and

• 15 percent of the available funds for projects that support careers in early intervention.

Competitive Preferences

Within this absolute priority, we will give the following competitive preference points under section 673(g)(3)(B) of IDEA and 34 CFR 75.105(c)(2)(i) to applications that are otherwise eligible for funding under this priority:

Up to ten (10) points based on the extent to which institutions of higher education are successfully recruiting and preparing individuals with disabilities and individuals from groups that are underrepresented in the profession for which they are preparing individuals.

In addition, we will give the following competitive preference under section 606 of IDEA and 34 CFR 75.105(c)(2)(i) to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of these competitive preferences, applicants can be awarded up to a total of 20 points in addition to those awarded under the published selection criteria for this priority. That is, an applicant meeting these competitive preferences could earn a maximum total of 120 points.

Project Period: Up to 60 months.

Maximum Award: The maximum award amount is $300,000. Consistent with EDGAR (34 CFR 75.104(b)), we will reject any application that proposes a project funding level for any year that exceeds the stated maximum award amount for that year.

Page Limits: The maximum page limit for this priority is 50 double-spaced pages.

Note: Applications must meet the required page limit standards that are described in the “General Requirements” section of this notice.

Absolute Priority 2—Preparation of Leadership Personnel (84.325D)

This priority supports projects that conduct the following preparation activities for leadership personnel:

(a) Preparing personnel at the doctoral, and postdoctoral levels of training to administer, enhance, or to provide special education, related services, or early intervention services for children with disabilities; or

(b) Master's and specialist level programs in special education administration.

Projects funded under this absolute priority must—

(a) Prepare personnel to work with culturally and linguistically diverse populations by—

(1) Determining the additional competencies for personnel needed to understand and work with culturally diverse populations; and

(2) Infusing those competencies into early intervention, special education and related services training programs.

(b) Include coursework reflecting current research and pedagogy on—

(1) Participation and achievement in the general education curriculum and improved outcomes for children with disabilities; or

(2) The provision of coordinated services in natural environments to improve outcomes for infants and toddlers with disabilities and their families.

(c) Demonstrate how research-based curriculum and pedagogy are incorporated into training requirements and reflected in all relevant coursework for the proposed training program.

(d) Offer integrated training and practice opportunities that will enhance the collaborative skills of appropriate personnel who share responsibility for providing effective services for children with disabilities.

(e) Provide clear, defensible data-based methods for evaluating the extent to which graduates of the training program are prepared to provide high quality services that result in improved outcomes for children with disabilities; and communicate the results of this evaluation process to OSEP in annual performance reports and the final performance report;

(f) Describe how the proposed training program is aligned with State learning standards for children; and

(g) Include, in the application Appendix, all course syllabi that are relevant to the training program proposed. Course syllabi must clearly reflect the incorporation of research based curriculum and pedagogy as required under (c) above.

To be considered for an award, an applicant must satisfy the following requirements contained in section 673(f)-(i) of the Act and 34 CFR part 304—

(a) Demonstrate, with letters from one or more States that the project proposes to serve, that such State or States need personnel in the area or areas in which the applicant proposes to provide preparation, as identified in the States' comprehensive systems of personnel development under Part B or C of the Act;

(b) Demonstrate that it has engaged in a cooperative effort with one or more State educational agencies or, if appropriate, lead agencies for providing early intervention services, to plan, carry out, and monitor the project;

(c) Meet State and professionally-recognized standards for the preparation of leadership personnel in special education, related services, or early intervention fields;

(d) Ensure that individuals who receive financial assistance under the proposed project will meet the service obligation requirements, or repay all or part of the cost of that assistance, in accordance with section 673(h)(2) of the Act and the regulations in 34 CFR part 304. Applicants must describe how they will inform scholarship recipients of this service obligation requirement; and

(e) In accordance with section 673(i) of the Act and § 304.20 of the regulations, use at least 65 percent of the total requested budget for student scholarships or provide sufficient justification for any designation less than 65 percent of the total requested budget for student scholarships.

Competitive Preferences

Within this absolute priority, we will give the following competitive preference points under section 673(g)(3)(B) of IDEA and 34 CFR 75.105(c)(2)(i) to applications that are otherwise eligible for funding under this priority:

Up to ten (10) points based on the extent to which institutions of higher education are successfully recruiting and preparing individuals with disabilities and individuals from groups that are underrepresented in the profession for which they are preparing individuals.

In addition, we will give the following competitive preference points under section 606 of IDEA and 34 CFR 75.105(c)(2)(i) to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of these competitive preferences, applicants can be awarded up to a total of 20 points in addition to those awarded under the published selection criteria for this priority. That is, an applicant meeting these competitive preferences could earn a maximum total of 120 points.

Project Period: Up to 48 months.

Maximum Award: The maximum award amount is $200,000. Consistent with EDGAR (34 CFR 75.104(b)), we will reject any application that proposes a project funding level for any year that exceeds the stated maximum award amount for that year.

Page Limits: The maximum page limit for this priority is 50 double-spaced pages.

Note: Applications must meet the required page limit standards that are described in the “General Requirements” section of this notice.

Absolute Priority 3—Preparation of Personnel in Minority Institutions (84.325E)

This priority supports awards to institutions of higher education with minority student enrollments of at least 25 percent, including Historically Black Colleges and Universities, for the purpose of preparing personnel to work with children with disabilities.

This priority supports projects that provide preservice preparation of special educators, early intervention personnel, and related services personnel at the associate, baccalaureate, master's, specialist, doctoral, or post-doctoral level.

A preservice program is a program that leads toward a degree, certification, professional license or endorsement (or its equivalent), and may include the preparation of currently employed personnel who are seeking additional degrees, certifications, endorsements, or licenses.

Applicants may propose to prepare one or more of the following types of personnel:

(a) Special educators, including early childhood, speech and language, adapted physical education, and assistive technology, and paraprofessional personnel who work with children with disabilities;

(b) Related services personnel who provide developmental, corrective, and other support services (such as school psychologists, occupational or physical therapists, recreational therapists) that assist children with disabilities to benefit from special education. Both comprehensive programs, and specialty components within a broader discipline, that prepare personnel for work with children with disabilities may be supported. For the purpose of this priority, eligible related services providers do not include physicians; or

(c) Early intervention personnel who serve children birth through age 2 (until the third birthday) and their families. Early intervention personnel include persons who train, or serve as consultants to service providers and service coordinators.

Projects funded under this absolute priority must—

(a) Use research-based curriculum and pedagogy to prepare personnel who are able to improve outcomes for students with disabilities and to foster appropriate access to and achievement in the general education curriculum where appropriate;

(b) Demonstrate how research-based curriculum and pedagogy are incorporated into training requirements and reflected in all relevant coursework for the proposed training program.

(c) Offer integrated training and practice opportunities that will enhance the collaborative skills of appropriate personnel who share responsibility for providing effective services for children with the disabilities;

(d) Prepare personnel to address the specialized needs of children with disabilities from diverse cultural and language backgrounds by—

(1) Determining the additional competencies needed for personnel to understand and work with culturally and linguistically diverse populations; and

(2) Infusing those competencies into early intervention, special education, and related services training programs, as appropriate;

(e) Develop or improve and implement mutually beneficial partnerships between training programs and schools where children are served to promote continuous improvement in preparation programs and in service delivery;

(f) If field-based training is provided, include field-based training opportunities for students in schools and settings reflecting wide contextual and student diversity, including schools and settings in high poverty communities;

(g) Employ effective strategies for recruiting students from culturally and linguistically diverse populations; and

(h) Provide student support systems (including tutors, mentors, and other innovative practices) to enhance student retention and success in the program.

(i) Provide clear, defensible data-based methods for evaluating the extent to which graduates of the training program are prepared to provide high quality services that result in improved outcomes for children with disabilities; and describe how the data-based results of this evaluation process will be communicated to OSEP in required annual continuation reports and final grant reports;

(j) Describe how the proposed training program is aligned with State learning standards for children; and

(k) Include, in the application Appendix, all course syllabi that are relevant to the training program proposed. Course syllabi must clearly reflect the incorporation of research based curriculum and pedagogy as required under (b) above.

To be considered for an award, an applicant must satisfy the following requirements contained in section 673(f)-(i) of the Act and 34 CFR part 304—

(a) Demonstrate, with letters from one or more States that the project proposes to serve, that States need personnel in the area or areas in which the applicant proposes to provide preparation, as identified in the States' comprehensive systems of personnel development under Part B or C of the Act;

(b) Demonstrate that it has engaged in a cooperative effort with one or more State educational agencies or, if appropriate, lead agencies for providing early intervention services, to plan, carry out, and monitor the project;

(c) Provide letters from one or more States stating that they intend to accept successful completion of the proposed personnel preparation program as meeting State personnel standards for serving children with disabilities or serving infants and toddlers with disabilities;

(d) Meet State and professionally-recognized standards for the preparation of special education, related services, or early intervention personnel, if the purpose of the project is to assist personnel in obtaining degrees;

(e) Ensure that individuals who receive financial assistance under the proposed project will meet the service obligation requirements, or repay all or part of the cost of that assistance, in accordance with section 673(h)(1) of the Act and the regulations in 34 CFR part 304. Applicants must describe how they will inform scholarship recipients of this service obligation requirement; and

(f) In accordance with section 673(i) of the Act and § 304.20 of the regulations, use at least 55 percent of the total requested budget for student scholarships or provide sufficient justification for any designation less than 55 percent of the total requested budget for student scholarships.

Sufficient justification for proposing less than 55 percent of the budget for student support would include activities such as program development, expansion of a program, or the addition of a new emphasis area. Examples include:

• A project that is starting a new program may request up to a year for program development and capacity building. In the initial project year, no student support would be required. Instead, a project could hire a new faculty member, or a consultant to assist in program development;

• A project that is proposing to build capacity may hire a field supervisor so that additional students can be trained; and

• A project that is expanding or adding a new emphasis area to the program may initially need additional faculty or other resources such as expert consultants, additional training supplies or equipment that would enhance the program.

Projects that are funded to develop, expand, or to add a new emphasis area to special education or related services programs must provide information on how these new areas will be institutionalized once Federal funding ends.

Competitive Preferences

Within this absolute priority, we will give the following competitive preference points under 34 CFR 75.105(c)(2)(i) to applicant institutions that are otherwise eligible for funding under this priority:

Up to ten (10) points to applicant institutions that have not received a FY 2001 or FY 2002 award under the IDEA personnel preparation program.

In addition, we will give the following competitive preference points under section 673(g)(3)(B) of IDEA and 34 CFR 75.105(c)(2)(i) to applicant institutions that are otherwise eligible for funding under this priority:

Up to ten (10) points based on the extent to which institutions of higher education are successfully recruiting and preparing individuals with disabilities and individuals from groups that are underrepresented in the profession for which they are preparing individuals.

In addition, we will also give the following competitive preference points under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of these competitive preferences applicants can be awarded up to a total of 30 points in addition to those awarded under the published selection criteria for this priority. That is, an applicant meeting all of these competitive preferences could earn a maximum total of 130 points.

Project Period: Up to 48 months.

Maximum Award: The maximum award amount is $200,000. Consistent with EDGAR (34 CFR 75.104(b)), we will reject any application that proposes a project funding level for any year that exceeds the stated maximum award amount for that year.

Page Limits: The maximum page limit for this priority is 50 double-spaced pages.

Note: Applications must meet the required page limit standards that are described in the “General Requirements” section of this notice.

Absolute Priority 4—Improving the Preparation of Personnel To Serve Children With High-Incidence Disabilities (84.325H)

Background

State agencies, university training programs, local schools, and other community-based agencies and organizations confirm both the importance and the challenge of improving training programs for personnel to serve children with high-incidence disabilities and of meeting the staffing needs of localities experiencing chronic shortages of these personnel.

This priority is intended to improve personnel preparation programs throughout the nation and help meet shortages in particular areas. A number of important factors that are common to effective personnel preparation programs are:

(a) Collaboration among governmental, educational and community-based organizations on the Federal, State, and local levels in meeting personnel needs;

(b) Field-based training opportunities for students to use acquired knowledge and skills in demographically diverse schools;

(c) Multi-disciplinary training of teachers, including regular and special education teachers, and related services personnel;

(d) Coordinating personnel preparation programs aimed at addressing chronic personnel shortages with State practices for addressing those needs;

(e) Addressing shortages of teacher's in particular geographic and content areas;

(f) Integration of research-based curriculum and pedagogical knowledge and practices; and

(g) Meeting the needs of trainees, and of children with disabilities, from diverse backgrounds.

Priority

Consistent with section 673(e) of the Act, the purpose of this priority is to develop or improve, and implement, programs that provide preservice preparation for special and regular education teachers and related services personnel in order to meet the diverse needs of children with high incidence disabilities and to enhance the supply of well-trained personnel to serve these children in areas of chronic shortage. For the purpose of this priority, high-incidence disabilities include mild or moderate mental retardation, speech or language impairments, emotional disturbance, or specific learning disability. Training of early intervention personnel is addressed under the priority for the preparation of personnel to serve children with low-incidence disabilities (84.325A), and, therefore, is not included as part of this priority).

A preservice program is a program that leads toward a degree, certification, professional license or endorsement (or its equivalent), and may include the preparation of currently employed personnel who are seeking additional degrees, certifications, endorsements, or licenses.

Applicants may propose to prepare one or more of the following types of personnel:

(a) Special educators, including early childhood, speech and language, adapted physical education, assistive technology, and paraprofessional personnel who work with children with high-incidence disabilities.

(b) Related services personnel, who provide developmental, corrective, and other support services (such as school psychologists, occupational or physical therapists, recreational therapists) that assist children with high-incidence disabilities to benefit from special education. For the purpose of this priority, eligible related service providers do not include physicians. Both comprehensive programs, and specialty components within a broader discipline that prepare personnel for work with the high incidence population, may be supported.

Projects funded under this priority must—

(a) Use research-based curriculum and pedagogy to prepare personnel who are able to assist students with disabilities in achieving in the general education curricula and to improve student outcomes;

(b) Demonstrate how research-based curriculum and pedagogy are incorporated into training requirements and reflected in all relevant coursework for the proposed training program.

(c) Offer integrated training and practice opportunities that will enhance the collaborative skills of appropriate personnel who share responsibility for providing effective services for children with high-incidence disabilities;

(d) Prepare personnel to work with culturally and linguistically diverse populations by—

(1) Determining the additional competencies needed for personnel to understand and work with culturally and linguistically diverse students with high-incidence disabilities; and

(2) Infusing those competencies into special education or related services training;

(e) Develop or improve and implement partnerships that are mutually beneficial to grantees and LEAs in order to promote continuous improvement of preparation programs; and

(f) Include field-based training opportunities for students in schools reflecting wide contextual and student diversity, including high poverty schools;

(g) Provide clear, defensible data-based methods for evaluating the extent to which graduates of their training program are prepared to provide high quality services that result in improved outcomes for children with disabilities; and, describe how the data-based the results of this evaluation process will be communicated to OSEP in required annual continuation reports and final grant reports;

(h) Describe how the proposed training program is aligned with State learning standards for children; and

(i) Include, in the application Appendix, all course syllabi that are relevant to the training program proposed. Course syllabi must clearly reflect the incorporation of research based curriculum and pedagogy as required under (b) above.

An applicant must satisfy the following requirements contained in section 673(f)-(i) of the Act and 34 CFR part 304:

(a) Demonstrate, with letters from one or more States that the project proposes to serve, that such State or States need personnel in the area or areas in which the applicant proposes to provide preparation, as identified in the States' comprehensive systems of personnel development under Part B of the Act;

(b) Demonstrate that it has engaged in a cooperative effort with one or more State educational agencies to plan, carry out, and monitor the project;

(c) Provide letters from one or more States stating that they intend to accept successful completion of the proposed personnel preparation program as meeting State personnel standards for serving children with disabilities;

(d) Meet State and professionally-recognized standards for the preparation of special education and related services personnel;

(e) Ensure that individuals who receive financial assistance under the proposed project will meet the service obligation requirements, or repay all or part of the cost of that assistance, in accordance with section 673(h)(1) of the Act and the regulations in 34 CFR part 304. Applicants must describe how they will inform scholarship recipients of this service obligation requirement; and

(f) In accordance with section 673(i) of the Act and § 304.20 of the regulations, use at least 65 percent of the total requested budget for student scholarships or provide sufficient justification for any designation less than 65 percent of the total requested budget for student scholarships.

Competitive Preferences

Within this absolute priority we will give the following competitive preference points under section 673(g)(3)(B) of IDEA and 34 CFR 75.105(c)(2)(i) to applications that are otherwise eligible for funding under this priority.

Up to ten (10) points based on the extent to which institutions of higher education are successfully recruiting and preparing individuals with disabilities and individuals from groups that are underrepresented in the profession for which they are preparing individuals.

In addition, we will give the following competitive preference points under section 606 of IDEA and 34 CFR 75.105(c)(2)(i) to applications that are otherwise eligible for funding under this priority.

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of these competitive preferences applicants can be awarded up to a total of 20 points in addition to those awarded under the published selection criteria for this priority. That is, an applicant meeting each of these competitive preferences could earn a maximum total of 120 points.

Project Period: Up to 48 months.

Maximum Award: The maximum award amount is $200,000. Consistent with EDGAR (34 CFR 75.104(b)), we will reject any application that proposes a project funding level for any year that exceeds the stated maximum award amount for that year.

Page Limits: The maximum page limit for this priority is 50 double-spaced pages.

Note: Applications must meet the required page limit standards that are described in the “General Requirements” section of this notice.

Absolute Priority 5—Projects of National Significance (84.325N)

We establish an absolute priority to support projects that address issues of national significance and have broad applicability. Projects supported under this priority must develop, evaluate, and disseminate innovative models. These models must be designed to serve as blueprints for systemic improvement in the recruitment, preparation, induction, retention, or ongoing professional development of personnel who have responsibility for ensuring that children with disabilities achieve to high standards and become independent, productive citizens. These personnel include early intervention personnel, regular and special education teachers, administrators, related service personnel, and paraprofessionals. If the project maintains a web site, it must include relevant information and documents in an accessible form.

Projects must (1) use current research-validated practices and materials and (2) communicate appropriately with target audiences.

Applicants must note that:

(a) The purpose of this priority is model development. Thus, we do not expect that student scholarships will be supported. However, release time for staff for development activities is appropriate; and

(b) We expect that projects funded under this priority will incorporate a systemic approach to dissemination to relevant training and technical assistance entities.

Invitational Priorities

Within this absolute priority, we are particularly interested in applications that meet one or more of the following priorities. However, under 34 CFR 75.105(c)(1) an application that meets one or more of these invitational priorities does not receive competitive or absolute preference over other applications:

(a) Projects that are designed to reduce personnel shortages by developing innovative models for promoting the transferability, across State and local jurisdictions, of licensure and certification of personnel serving infants, toddlers, and children with disabilities;

(b) Projects that are designed to increase the quantity, quality, and diversity of personnel who serve infants, toddlers, or children with disabilities by developing innovative, proactive models for recruiting personnel into training programs or professional positions;

(c) Projects that are designed to increase the retention of new personnel by developing innovative, multi-year, developmental induction models;

(d) Projects that are designed to improve the learning of children with disabilities in the general education curricula by developing innovative models for collaborative training of regular and special education personnel, including paraprofessionals;

(e) Projects that are designed to enhance professional development curricula for personnel serving infants, toddlers, or children with disabilities by developing case or problem-based training modules that can be integrated into training curricula. We expect that these projects would incorporate state-of-the-art technology in the design and dissemination of the modules;

(f) Projects that are designed to enhance teaching and learning through the development of innovative training models that incorporate state-of-the-art assistive, instructional and communicative technology knowledge and use; and

(g) Projects that are designed to enhance professional development curricula for teachers and administrators serving infants, toddlers, or children with disabilities by developing modules for individualized education program (IEP) decisionmaking, particularly with regard to a child's participation in assessments.

Competitive Preference

Within this absolute priority, we will give the following competitive preference points under section 606 of IDEA and 34 CFR 75.105(c)(2)(i) to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 36 months.

Maximum Award: The maximum award amount is $200,000. Consistent with EDGAR (34 CFR 75.104(b)), we will reject any application that proposes a project funding level for any year that exceeds the stated maximum award amount for that year.

Page Limits: The maximum page limit for this priority is 50 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

If you request an application from ED Pubs, be sure to identify the competition by the appropriate CFDA number.

For Further Information Contact: Grants and Contracts Services Team, U.S. Department of Education, 400 Maryland Avenue, SW., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact persons listed in the preceding paragraph.

Individuals with disabilities may obtain a copy of the application package in an alternative format by contacting the Department as listed above. However, the Department is not able to reproduce in an alternative format the standard forms included in the application package.

Intergovernmental Review

All programs in this notice (except for the Research and Innovation to Improve Services and Results for Children with Disabilities Program) are subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for those programs.

Individuals With Disabilities Education Act, Application Notice for Fiscal Year 2002
CFDA No. and name | Applications available | Application deadline date | Deadline for intergovernmental review | Maximum award (per year) ¹ | Project period | Page limit ² | Estimated number of awards
84.325A Preparation of Special Education, Related Services, and Early Intervention Personnel to Serve Infants, Toddlers, and Children with Low-Incidence Disabilities | 10/09/01 | 01/11/02 | 03/12/02 | $300,000 | Up to 60 mos | 50 | 30
84.325D Preparation of Leadership Personnel | 10/09/01 | 01/04/02 | 03/05/02 | 200,000 | Up to 48 mos | 50 | 13
84.325D Preparation of Personnel in Minority Institutions | 10/09/01 | 02/01/02 | 04/02/02 | 200,000 | Up to 48 mos | 50 | 16
84.325H Improving the Preparation of Personnel to Serve Children with High-Incidence Disabilities | 10/09/01 | 01/18/02 | 03/19/02 | 200,000 | Up to 48 mos | 50 | 26
84.325N Projects of National Significance | 10/09/01 | 01/25/02 | 03/26/02 | 200,000 | Up to 36 mos | 50 | 10
¹ Consistent with EDGAR (34 CFR 75.104(b)), we will reject any application that proposes a project funding level for any year that exceeds the stated maximum award amount for that year.
² Applicants must limit the Application Narrative, Part III of the Application, to the page limits noted above. Please refer to the “Page Limit” requirements and the page limit standards described in the “General Requirements” section included under each priority description. We will reject and will not consider an application that does not adhere to this requirement.

Electronic Access to This Document

You may view this document, as well as all other Department of Education documents published in the Federal Register, in text or Adobe Portable Document Format (PDF) on the internet at the following site: www.ed.gov/legislation/FedRegister

To use the PDF you must have Adobe Acrobat Reader, which is available free at this site. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1405, 1461, and 1473.

Dated: September 28, 2001.
Robert H. Pasternack,
Assistant Secretary for Special Education and Rehabilitative Services.

[FR Doc. 01-25130 Filed 10-5-01; 8:45 am]

BILLING CODE 4000-01-U